DEPARTMENT OF THE TREASURY

Office of Foreign Assets Control

Publication of Iran General License G

AGENCY: Office of Foreign Assets Control, Treasury.

ACTION: Notice, publication of general license.

SUMMARY: The Department of the Treasury's Office of Foreign Assets Control (OFAC) published in the Federal Register General License G, which was issued under the Iranian transactions sanctions program on March 19, 2014. General License G authorizes certain academic exchanges between U.S. academic institutions and Iranian universities and the exportation or importation of certain educational services.

DATES: Effective Date: March 19, 2014.

FOR FURTHER INFORMATION CONTACT: Assistant Director for Licensing, tel.: 202-622-2480, Assistant Director for Policy, tel.: 202-622-2402, Assistant Director for Regulatory Affairs, tel.: 202-622-4855, Assistant Director for Sanctions Compliance & Evaluation, tel.: 202-622-2490, Office of Foreign Assets Control, or Chief Counsel (Foreign Assets Control), tel.: 202-622-2410, Office of the General Counsel, Department of the Treasury (not toll free numbers).

SUPPLEMENTARY INFORMATION:

Electronic and Facsimile Availability

The text of General License G and additional information concerning OFAC are available on OFAC's Web site (www.treasury.gov/ofac). Certain general information pertaining to OFAC's sanctions programs also is available via facsimile through a 24-hour fax-on-demand service, tel.: 202/622-0077.

Background

On March 19, 2014, OFAC issued General License G authorizing certain academic exchanges between U.S. academic institutions and Iranian universities and the exportation or importation of certain educational services. On March 20, 2014, OFAC made General License G available on the OFAC Web site (www.treasury.gov/ofac). With this notice, OFAC is publishing General License G in the Federal Register.

General License G

Certain Academic Exchanges and the Exportation or Importation of Certain Educational Services Authorized

(a) Academic Exchanges. Except as provided in paragraph (c) of this general license, accredited graduate and undergraduate degree-granting academic institutions located in the United States (collectively, “U.S. academic institutions”), including their contractors, are authorized to enter into student academic exchange agreements with universities located in Iran (collectively, “Iranian universities”) related to undergraduate or graduate educational courses, and to engage in all activities related to such agreements, including, but not limited to, the provision of scholarships to students enrolled in Iranian universities to allow such students to attend U.S. academic institutions.

(b) Educational Services. Except as provided in paragraph (c) of this general license,

(1) U.S. academic institutions, including their contractors, are authorized to export services:

(i) In connection with the filing and processing of applications and the acceptance of payments for submitted applications and tuition from or on behalf of individuals who are located in Iran, or located outside Iran but who are ordinarily resident in Iran;

(ii) related to the recruitment, hiring, or employment in a teaching capacity of individuals who are located in Iran, or located outside Iran but who are ordinarily resident in Iran, and regularly employed in a teaching capacity at an Iranian university, provided that no such individuals are employed in a teaching capacity within the United States without being granted appropriate visas by the U.S. Department of State or authorization from the U.S. Department of Homeland Security; and

(iii) to individuals located in Iran, or located outside Iran but who are ordinarily resident in Iran, to sign up for and to participate in undergraduate level online courses (including Massive Open Online Courses, coursework not part of a degree seeking program, and fee-based courses) provided by U.S. academic institutions in the humanities, social sciences, law, or business provided that the courses are the equivalent of courses ordinarily required for the completion of undergraduate degree programs in the humanities, social sciences, law, or business, or are introductory undergraduate level science, technology, engineering, or math courses ordinarily required for the completion of undergraduate degree programs in the humanities, social sciences, law, or business.

(2) U.S. persons who are actively enrolled in U.S. academic institutions are authorized to (i) participate in educational courses or engage in noncommercial academic research at Iranian universities at the undergraduate level, or (ii) participate in educational courses at the graduate level or engage in noncommercial academic research at Iranian universities in the humanities, social sciences, law, or business at levels above the undergraduate level.

(3) U.S. persons are authorized to export services to Iran in support of the following not-for-profit educational activities in Iran: combating illiteracy, increasing access to education, and assisting in educational reform projects.

(4) U.S. persons, wherever located, are authorized to administer professional certificate examinations and university entrance examinations, including, but not limited to, multiple choice standardized tests, and to provide those services that are necessary or required for admission to U.S. academic institutions, to individuals who are located in Iran or located outside Iran but who are ordinarily resident in Iran.

(c) This general license does not authorize:

(1) The exportation or reexportation of any goods (including software) or technology (see 31 CFR 560.418 & Note 1 addressing releases of technology or software to foreign nationals) to (i) the Government of Iran, or (ii) Iran, except for technology or software released under this General License that is designated as EAR99 under the Export Administration Regulations, 15 CFR parts 730 through 774 (the “EAR”), or constitutes Educational Information not subject to the EAR, as set forth in 15 CFR 734.9, and the release does not otherwise require a license from the Department of Commerce; or

(2) The exportation or reexportation of services to any person whose property and interests in property are blocked pursuant to any part of 31 CFR chapter V other than part 560.

Note 1 to General License G: Students from Iranian universities who are otherwise qualified for a non-immigrant visa are authorized to carry out in the United States those activities for which such a visa has been granted by the U.S. State Department pursuant to 31 CFR 560.505.

Note 2 to General License G: United States depository institutions or United States registered brokers or dealers in securities are authorized to process transfers of funds in furtherance of activities authorized by this general license so long as the transfer is consistent with 31 CFR 560.516.

Note 3 to General License G: United States depository institutions and private loan companies are authorized to engage in all transactions necessary to collect, accept, and process student loan payments from persons in Iran or ordinarily resident in Iran under 31 CFR 560.551.

Note 4 to General License G: U.S. persons are authorized to engage in certain publishing-related activities, including with persons from academic and research institutions and their personnel in Iran under 31 CFR 560.538.

Note 5 to General License G: U.S. persons are authorized, inter alia, to export, reexport, and provide certain services, software, and hardware incident to personal communications under General License D-1 of 31 CFR part 560.

Issued: March 19, 2014.

Dated: August 12, 2014.
John E. Smith,
Acting Director, Office of Foreign Assets Control.

[FR Doc. 2014-19614 Filed 8-18-14; 8:45 am]

BILLING CODE 4810-AL-P